DEPARTMENT OF LABOR

Employment and Training Administration

[TA-W-38,231]

S.I. Cutting, Inc., Opalocka, Florida; Notice of Termination of Investigation

Pursuant to section 221 of the Trade Act of 1974, an investigation was initiated on October 4, 2000 in response to a petition filed on behalf of workers at S.I. Cutting, Incorporation, Opalocka, Florida.

The petitioning group of workers are subject to an ongoing investigation for which a determination has not yet been issued (TA-W-38, 116). Consequently, further investigation in this case would serve no purpose, and the investigation has been terminated.

Signed in Washington, D.C. this 2nd day of November, 2000.
Linda G. Poole,
Certifying Officer, Division, Trade Adjustment Assistance.

[FR Doc. 00-30624 Filed 11-30-00; 8:45 am]

BILLING CODE 4510-30-M